DEPARTMENT OF HEALTH AND HUMAN SERVICES

Substance Abuse and Mental Health Services Administration

Fiscal Year (FY) 2010 Funding Opportunity

AGENCY: Substance Abuse and Mental Health Services Administration, HHS.

ACTION: Notice of intent to award a Single Source Grant to the current grantee for the National Center for Child Traumatic Stress.

SUMMARY: This notice is to inform the public that the Substance Abuse and Mental Health Services Administration (SAMHSA) intends to award approximately $1,000,000 (total costs) for up to one year to the current grantee for the National Center for Child Traumatic Stress (NCCTS). This is not a formal request for applications. Assistance will be provided only to the current grantee for the National Center for Child Traumatic Stress based on the receipt of a satisfactory application that is approved by an independent review group.

Funding Opportunity Title: SM-10-016.

Catalog of Federal Domestic Assistance (CFDA) Number: 93.243.

Authority: Section 582 of the Public Health Service Act, as amended.

Justification: Only an application from the current grantee for the National Center for Child Traumatic Stress will be considered for funding under this announcement. One-year funding has become available to assist SAMHSA in responding to data analysis and reporting activities that improve evidence-based practices and raise the standard of trauma care. It is considered most cost-effective and efficient to supplement the existing grantee because they have access to the existing National Child Traumatic Stress Network (NCTSN) datasets and data analytic expertise to conduct the required data analytic activities. There is no other potential organization with the required access and expertise.

Eligibility for this program supplement is restricted to the current grantee, National Center for Child Traumatic Stress in accordance with Congressional intent for 2010 SAMHSA appropriations.

The role of the NCCTS is to provide infrastructure and support for the National Child Traumatic Stress Network to achieve its goals of increasing access and raising the standard of care for traumatized children, adolescents, and their families. The NCCTS is responsible for data collection for the NCTSN and the dissemination of program findings to guide best practice implementation. This data collection includes the core data set which details the demographics, clinical, family and trauma exposure factors which are related to the types of services received through National Child Traumatic Stress Initiative. The data analysis supported by the NCCTS will improve evidence-based practices and raise the standard of trauma care.

Contact: Shelly Hara, Substance Abuse and Mental Health Services Administration, 1 Choke Cherry Road, Room 8-1095, Rockville, MD 20857; telephone: (240) 276-2321; E-mail: shelly.hara@samhsa.hhs.gov.

Toian Vaughn,
SAMHSA Committee Management Officer.

[FR Doc. 2010-9465 Filed 4-22-10; 8:45 am]

BILLING CODE 4162-20-P